DEPARTMENT OF TRANSPORTATION

Coast Guard

46 CFR Part 45

[USCG-1998-4623]

RIN 2115-AF38

Limited Service Domestic Voyage Load Lines for River Barges on Lake Michigan

AGENCY: Coast Guard, DOT.

ACTION: Interim rule; announcement of effective date.

SUMMARY: The Coast Guard is announcing the approval of a collection-of-information requirement pertaining to the special load line regime that was established for Lake Michigan by an interim rule published in April 2002. Owners or operators of dry cargo river barges desiring to operate on certain Lake Michigan routes must submit barge information in order to qualify for the special regime.

DATES: 46 CFR 45.181 and 45.183, as published April 23, 2002 (67 FR 19692), are effective June 20, 2002.

FOR FURTHER INFORMATION CONTACT: If you have questions on this document, call Thomas Jordan, Naval Architecture Division (G-MSE-2), telephone 202-267-0142 or fax 202-267-4816. If you have questions on viewing the docket [USCG-1998-4623], call Dorothy Beard, Chief, Dockets, Department of Transportation, telephone 202-366-5149.

SUPPLEMENTARY INFORMATION: Administration of the U.S. load line regulations requires vessel owners or operators to submit certain information to the Coast Guard or the American Bureau of Shipping (which issues load lines on behalf of the Coast Guard). This load line collection of information is controlled by the Office of Management and Budget under the Office of Management and Budget (OMB) control no. 2115-0043.

Recently, a special load line regime was established through an interim rule for river barges operating on certain Lake Michigan routes. This interim rule was published in the Federal Register on April 23, 2002 (67 FR 19685), and is available electronically through the docket [USCG-1998-4623] web site at http://dms.dot.gov. It became effective on May 23, 2002, with the exception of two sections, 46 CFR 45.181 and 45.183, that contain collection-of-information requirements associated with the new regime.

Because these two sections required the collection of information, they could not become effective until they were reviewed and approved by the Office of Management and Budget. As required by 44 U.S.C. 3507(d), we submitted a copy of this interim rule to OMB for its review. On May 28, 2002, after reviewing the rule and the overall load line collection-of-information burden under control no. 2115-0043, OMB approved the collection of information required by this interim rule.

Dated: June 14, 2002.
Joseph J. Angelo,
Director of Standards, Marine Safety, Security and Environmental Protection.

[FR Doc. 02-15603 Filed 6-19-02; 8:45 am]

BILLING CODE 4910-15-P